DEPARTMENT OF TRANSPORTATION

Federal Aviation Administration

14 CFR Part 39

[Docket No. FAA-2005-20078; Directorate Identifier 2004-NM-210-AD]

RIN 2120-AA64

Airworthiness Directives; BAE Systems (Operations) Limited Model Avro 146-RJ Series Airplanes

AGENCY: Federal Aviation Administration (FAA), Department of Transportation (DOT).

ACTION: Notice of proposed rulemaking (NPRM).

SUMMARY: The FAA proposes to adopt a new airworthiness directive (AD) for all BAE Systems (Operations) Limited Model Avro 146-RJ series airplanes. This proposed AD would require an inspection of the Thales Avionics distance bearing indicator (DBI) to determine part number (P/N) and serial number (S/N), and replacement of the affected DBI with a new or modified DBI. This proposed AD is prompted by a report of defective electrical insulators in DBIs. We are proposing this AD to prevent a short circuit in the DBI due to defective electrical insulation, which could potentially cause a loss of primary navigation instruments (such as airspeed indicator, altimeter, and global positioning system (GPS) information).

DATES: We must receive comments on this proposed AD by February 18, 2005.

ADDRESSES: Use one of the following addresses to submit comments on this proposed AD.

• DOT Docket Web site: Go to http://dms.dot.gov and follow the instructions for sending your comments electronically.

• Governmentwide rulemaking Web site: Go to http://www.regulations.gov and follow the instructions for sending your comments electronically.

• Mail: Docket Management Facility, U.S. Department of Transportation, 400 Seventh Street SW., Nassif Building, room PL-401, Washington, DC 20590.

• By fax: (202) 493-2251.

• Hand Delivery: Room PL-401 on the plaza level of the Nassif Building, 400 Seventh Street SW., Washington, DC, between 9 a.m. and 5 p.m., Monday through Friday, except Federal holidays.

For service information identified in this proposed AD, contact British Aerospace Regional Aircraft American Support, 13850 Mclearen Road, Herndon, Virginia 20171.

You can examine the contents of this AD docket on the Internet at http://dms.dot.gov, or in person at the Docket Management Facility, U.S. Department of Transportation, 400 Seventh Street SW., room PL-401, on the plaza level of the Nassif Building, Washington, DC. This docket number is FAA-2005-20078; the directorate identifier for this docket is 2004-NM-210-AD.

FOR FURTHER INFORMATION CONTACT: Technical information: Dan Rodina, Aerospace Engineer, International Branch, ANM-116, FAA, Transport Airplane Directorate, 1601 Lind Avenue, SW., Renton, Washington 98055-4056; telephone (425) 227-2125; fax (425) 227-1149.

Plain language information: Marcia Walters, marcia.walters@faa.gov.

SUPPLEMENTARY INFORMATION:

Docket Management System (DMS)

The FAA has implemented new procedures for maintaining AD dockets electronically. As of May 17, 2004, new AD actions are posted on DMS and assigned a docket number. We track each action and assign a corresponding directorate identifier. The DMS AD docket number is in the form “Docket No. FAA-2004-99999.” The Transport Airplane Directorate identifier is in the form “Directorate Identifier 2004-NM-999-AD.” Each DMS AD docket also lists the directorate identifier (“Old Docket Number”) as a cross-reference for searching purposes.

Comments Invited

We invite you to submit any relevant written data, views, or arguments regarding this proposed AD. Send your comments to an address listed under ADDRESSES. Include “Docket No. FAA-2005-20078; Directorate Identifier 2004-NM-210-AD” at the beginning of your comments. We specifically invite comments on the overall regulatory, economic, environmental, and energy aspects of the proposed AD. We will consider all comments submitted by the closing date and may amend the proposed AD in light of those comments.

We will post all comments we receive, without change, to http://dms.dot.gov, including any personal information you provide. We will also post a report summarizing each substantive verbal contact with FAA personnel concerning this proposed AD. Using the search function of our docket website, anyone can find and read the comments in any of our dockets, including the name of the individual who sent the comment (or signed the comment on behalf of an association, business, labor union, etc.). You can review the DOT's complete Privacy Act Statement in the Federal Register published on April 11, 2000 (65 FR 19477-78), or you can visit http://dms.dot.gov.

We are reviewing the writing style we currently use in regulatory documents. We are interested in your comments on whether the style of this document is clear, and your suggestions to improve the clarity of our communications that affect you. You can get more information about plain language at http://www.faa.gov/language and http://www.plainlanguage.gov.

Examining the Docket

You can examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the DMS receives them.

Discussion

The Civil Aviation Authority (CAA), which is the airworthiness authority for the United Kingdom, notified us that an unsafe condition may exist on BAE Systems (Operations) Limited Model Avro 146-RJ series airplanes equipped with certain Thales Avionics distance bearing indicators (DBI). The CAA advises that a manufacturing fault with the electrical insulation of the transformer in the DBI's power supply unit could result in the propagation of the 115V AC input power supply through the instrument and onto the DBI's Aeronautical Radio, Inc. (ARINC) 429 Input/Output interfaces (a short circuit). An analysis of this failure concluded that at the airplane level, the effect of this insulation failure/short-circuit could be loss of all airplane primary navigation instruments. Defective electrical insulation, if not corrected, could result in a short circuit in the DBI, and potentially cause a loss of primary navigation instruments (such as airspeed indicator, altimeter, and global positioning system (GPS) information).

Relevant Service Information

BAE Systems (Operations) Limited has issued Modification Service Bulletin SB.34-371-70671A, dated September 19, 2003. The modification service bulletin describes procedures for replacing the DBI with a new or modified DBI. Accomplishing the actions specified in the modification service bulletin is intended to adequately address the unsafe condition. The CAA mandated the modification service bulletin, and an inspection of Thales Avionics DBIs to determine part number (P/N) and serial number (S/N). The CAA issued British airworthiness directive G-2004-0006, dated March 2, 2004, to ensure the continued airworthiness of these airplanes in the United Kingdom.

The BAE Systems (Operations) Limited Modification Service Bulletin SB.34-371-70671A, dated September 19, 2003 refers to Thales Avionics Service Bulletin 354-34-052, dated September 1, 2003, as an additional source of service information for replacing the DBI.

FAA's Determination and Requirements of the Proposed AD

This airplane model is manufactured in the United Kingdom and is type certificated for operation in the United States under the provisions of § 21.29 of the Federal Aviation Regulations (14 CFR 21.29) and the applicable bilateral airworthiness agreement. Pursuant to this bilateral airworthiness agreement, the CAA has kept the FAA informed of the situation described above. We have examined the CAA's findings, evaluated all pertinent information, and determined that we need to issue an AD for products of this type design that are certificated for operation in the United States.

Therefore, we are proposing this AD, which would require accomplishing the actions specified in the service information described previously, except as discussed under “Differences Between the Proposed AD and the Service Bulletin.”

Differences Between the Proposed AD and the Service Bulletin

In addition to requiring certain actions in accordance with the service bulletin, this proposed AD would require an inspection for identifying the affected DBI's P/N and S/N. The Accomplishment Instructions of the referenced modification service bulletin do not specify to inspect the DBI for P/N and S/N.

Operators should note that, although the Accomplishment Instructions of the referenced modification service bulletin describe procedures for submitting an advice note related to recording compliance with the service bulletin, this proposed AD would not require that action. The FAA does not need this information from operators.

Costs of Compliance

This proposed AD would affect about 54 airplanes of U.S. registry. The proposed actions would take about 1 work hour per airplane, at an average labor rate of $65 per work hour. Required parts would cost about $728 per airplane. Based on these figures, the estimated cost of the proposed AD for U.S. operators is $42,822, or $793 per airplane.

Authority for This Rulemaking

The FAA's authority to issue rules regarding aviation safety is found in Title 49 of the United States Code. Subtitle I, Section 106, describes the authority of the FAA Administrator. Subtitle VII, Aviation Programs, describes in more detail the scope of the agency's authority.

This rulemaking is promulgated under the authority described in Subtitle VII, Part A, Subpart III, Section 44701, “General requirements.” Under that section, the FAA is charged with promoting safe flight of civil aircraft in air commerce by prescribing regulations for practices, methods, and procedures the Administrator finds necessary for safety in air commerce. This regulation is within the scope of that authority because it addresses an unsafe condition that is likely to exist or develop on products identified in this AD.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

BAE Systems (Operations) Limited (Formerly British Aerospace Regional Aircraft): Docket No. FAA-2005-20078; Directorate Identifier 2004-NM-210-AD.

Comments Due Date

(a) The Federal Aviation Administration must receive comments on this AD action by February 18, 2005.

Affected ADs

(b) None.

Applicability

(c) This AD applies to all BAE Systems (Operations) Limited Model Avro 146-RJ series airplanes, certificated in any category.

Unsafe Condition

(d) This AD was prompted by a report of defective electrical insulators in distance bearing indicators (DBI). We are issuing this AD to prevent a short circuit in the DBI due to defective electrical insulation, which could potentially cause a loss of primary navigation instruments (such as airspeed indicator, altimeter, and global positioning system (GPS) information).

Compliance

(e) You are responsible for having the actions required by this AD performed within the compliance times specified, unless the actions have already been done.

Part Number Inspection

(f) Within four months after the effective date of this AD, inspect the Thales Avionics DBI to determine whether a part number (P/N) and serial number (S/N) listed in the Effectivity of BAE Systems (Operations) Limited Modification Service Bulletin SB.34-371-70671A, dated September 19, 2003, is installed. Instead of inspecting the DBI, a review of airplane maintenance records is acceptable if the P/N and the S/N of the DBI can be positively determined from that review.

(1) If the DBI P/N and S/N do not match those listed in the service bulletin, no further action is required by this AD.

(2) If the DBI P/N and S/N do match those listed in the service bulletin, do the actions required in paragraph (g) of this AD within four months after the effective date of this AD.

Replacement

(g) Replace the DBI with a new DBI having P/N 63543-280-1 with a S/N not listed in the service bulletin, or a DBI having P/N 63543-280-2, in accordance with the Accomplishment Instructions of BAE Systems (Operations) Limited Modification Service Bulletin SB.34-371-70671A, dated September 19, 2003.

Parts Installation

(h) As of the effective date of this AD, no person may install a DBI with a part number (P/N) and serial number (S/N) listed in the Effectivity of BAE Systems (Operations) Limited Modification Service Bulletin SB.34-371-70671A, dated September 19, 2003, on any airplane unless it has been modified in accordance with paragraph (g) of this AD.

No Reporting

(i) Although the service bulletin references a reporting requirement in paragraph 2.C.2, “Documentation,” that reporting is not required by this AD.

Alternative Methods of Compliance (AMOCs)

(j) The Manager, International Branch, ANM-116, Transport Airplane Directorate, FAA, has the authority to approve AMOCs for this AD, if requested in accordance with the procedures found in 14 CFR 39.19.

Related Information

(k) British airworthiness directive G-2004-0006, dated March 2, 2004, also addresses the subject of this AD.

Issued in Renton, Washington, on January 6, 2005.
Ali Bahrami,
Manager, Transport Airplane Directorate, Aircraft Certification Service.

[FR Doc. 05-994 Filed 1-18-05; 8:45 am]

BILLING CODE 4910-13-P